DEPARTMENT OF EDUCATION

Notice of Proposed Information Collection Requests

AGENCY: Department of Education.

ACTION: Comment Request.

SUMMARY: The Department of Education (the Department), in accordance with the Paperwork Reduction Act of 1995 (PRA) (44 U.S.C. 3506(c)(2)(A)), provides the general public and Federal agencies with an opportunity to comment on proposed and continuing collections of information. This helps the Department assess the impact of its information collection requirements and minimize the reporting burden on the public and helps the public understand the Department's information collection requirements and provide the requested data in the desired format. The Director, Information Collection Clearance Division, Regulatory Information Management Services, Office of Management, invites comments on the proposed information collection requests as required by the Paperwork Reduction Act of 1995.

DATES: Interested persons are invited to submit comments on or before March 21, 2011.

ADDRESSES: Comments regarding burden and/or the collection activity requirements should be electronically mailed to ICDocketMgr@ed.gov or mailed to U.S. Department of Education, 400 Maryland Avenue, SW., LBJ, Washington, DC 20202-4537. Please note that written comments received in response to this notice will be considered public records.

SUPPLEMENTARY INFORMATION: Section 3506 of the Paperwork Reduction Act of 1995 (44 U.S.C. Chapter 35) requires that Federal agencies provide interested parties an early opportunity to comment on information collection requests. The Director, Information Collection Clearance Division, Regulatory Information Management Services, Office of Management, publishes this notice containing proposed information collection requests at the beginning of the Departmental review of the information collection. The Department of Education is especially interested in public comment addressing the following issues: (1) Is this collection necessary to the proper functions of the Department; (2) will this information be processed and used in a timely manner; (3) is the estimate of burden accurate; (4) how might the Department enhance the quality, utility, and clarity of the information to be collected; and (5) how might the Department minimize the burden of this collection on the respondents, including through the use of information technology.

Dated: January 13, 2011.
Darrin A. King,
Director, Information Collection Clearance Division, Regulatory Information Management Services, Office of Management.

Type of Review: NEW.

Title of Collection: Teacher Quality Distribution Study.

OMB Control Number: Pending.

Agency Form Number(s): N/A.

Frequency of Responses: On Occasion.

Affected Public: State, Local, or Tribal Government, State Educational Agencies or Local Educational Agencies.

Total Estimated Number of Annual Responses: 197.

Total Estimated Number of Annual Burden Hours: 1,183.

Abstract: Title II, Part A, the Improving Teacher State Formula Grants program is the primary Federal funding under the Elementary and Secondary Education Act to support a high quality teacher in every classroom. The American Recovery and Reinvestment Act supports reform in four key areas including increasing teacher effectiveness and promoting the equitable distribution of effective teachers. Therefore, this study describes the distribution of teacher quality within districts over time and any changes in that distribution associated with district strategies to promote an equitable distribution of high quality teachers.

This study will provide information over time about the distribution of teacher quality and will document district efforts to promote teacher equity within a select number of districts. The research questions are:

• What is the distribution of teacher quality across schools within districts?

• What strategies and policies are districts promoting to address inequitable distribution of teacher quality? How are these strategies/policies enacted (e.g. strategy determination, goals and objectives, theory of action, features, administration, necessary resources, challenges to administration, intended duration)?

• What is the relationship between the district policies/strategies and the distribution of teacher quality? The study will be conducted in up to 30 geographically-dispersed school districts. The study will document the distribution of teacher quality, within participating districts, using teacher value-added analyses. The study will also describe changes in the distribution of teacher quality across the outcomes years 2010-2011 through 2012-2013. Data collection will include student achievement obtained from administrative records, annual semi-structured district leadership interviews about district strategies and policies to address inequitable distribution of teacher quality, and district administrative records/personnel data.

Requests for copies of the proposed information collection request may be accessed from http://edicsweb.ed.gov, by selecting the “Browse Pending Collections” link and by clicking on link number 4484. When you access the information collection, click on “Download Attachments” to view. Written requests for information should be addressed to U.S. Department of Education, 400 Maryland Avenue, SW., LBJ, Washington, DC 20202-4537. Requests may also be electronically mailed to ICDocketMgr@ed.gov or faxed to 202-401-0920. Please specify the complete title of the information collection and OMB Control Number when making your request.

Individuals who use a telecommunications device for the deaf (TDD) may call the Federal Information Relay Service (FIRS) at 1-800-877-8339.

[FR Doc. 2011-987 Filed 1-18-11; 8:45 am]

BILLING CODE 4000-01-P